INTERNATIONAL TRADE COMMISSION

[USITC SE-14-032]

Sunshine Act Meetings

AGENCY HOLDING THE MEETING: United States International Trade Commission.

TIME AND DATE: October 9, 2014 at 11:00 a.m.

PLACE: Room 101, 500 E Street SW., Washington, DC 20436, Telephone: (202) 205-2000.

STATUS: Open to the public.

MATTERS TO BE CONSIDERED:

1. Agendas for future meetings: none

2. Minutes

3. Ratification List

4. Vote in Inv. Nos. 701-TA-501 and 731-TA-1226 (Final)(Chlorinated Isocyanurates from China and Japan). The Commission is currently scheduled to complete and file its determinations and views of the Commission on October 21, 2014.

5. Outstanding action jackets: none

In accordance with Commission policy, subject matter listed above, not disposed of at the scheduled meeting, may be carried over to the agenda of the following meeting.

By order of the Commission.
Issued: September 30, 2014.
William R. Bishop,
Supervisory Hearings and Information Officer.

[FR Doc. 2014-23721 Filed 10-1-14; 11:15 am]

BILLING CODE 7020-02-P